OFFICE OF PERSONNEL MANAGEMENT

5 CFR Parts 330 and 351

RIN 3206-AJ18

Placement Assistance and Reduction in Force Notices

AGENCY: Office of Personnel Management.

ACTION: Final regulations.

SUMMARY: The Office of Personnel Management (OPM) is issuing final placement assistance and reduction in force regulations to replace references to the repealed Job Training Partnership Act with references to the Workforce Investment Act of 1998.

DATES: These regulations are effective February 5, 2002.

FOR FURTHER INFORMATION CONTACT: Pam Galemore, 202-606-0960, FAX 202-606-2329, TDD (202) 606-0023, or e-mail at pjgalemo@opm.gov.

SUPPLEMENTARY INFORMATION: On October 26, 2000, OPM published interim regulations at 65 FR 64133 to replace references to the repealed Job Training Partnership Act (JTPA) with references to its successor statute, the Workforce Investment Act (WIA) of 1998. OPM is making the interim regulations final without further revision.

Background

The JTPA, Public Law 97-300, October 12, 1982, as amended, required the States to provide employment assistance programs to dislocated workers and others as defined in the Act. Since 1995, through OPM regulations published in §§ 330.405, 351.803, and 351.807 of title 5, Code of Federal Regulations (CFR), agencies have been required to give JTPA program information to employees in their specific reduction in force notices.

The JTPA was repealed effective July 1, 2000. States now provide placement assistance programs under the WIA, Public Law 105-220, August 7, 1998. The Omnibus Consolidated and Emergency Supplemental Appropriations Act, Public Law 105-277, section 405, October 21, 1998, amended the reduction in force statute at 5 U.S.C. 3502(d) to reflect this change in the controlling statute.

The interim regulations were issued solely to replace references to the repealed JTPA with references to its successor statute, the WIA. No other wording was changed.

The interim regulations were effective November 27, 2000. Interested parties could submit written comments to OPM concerning the regulations during the 60-day period following publication.

Comments

OPM did not receive any comments on the interim regulations.

Regulatory Flexibility Act

I certify that this regulation will not have a significant economic impact on a substantial number of small entities because it affects only certain Federal employees.

Executive Order 12866, Regulatory Review

This rule has been reviewed by the Office of Management and Budget in accordance with Executive Order 12866.

List of Subjects in 5 CFR Parts 330 and 351

Administrative practice and procedure, Armed forces reserves, Government Employees, Individuals with disabilities.

Office of Personnel Management.
Kay Coles James,
Director.

Accordingly, the interim regulations revising 5 CFR parts 330 and 351 which were published at 65 FR 64133 on October 26, 2000, are adopted as final regulations without change.

[FR Doc. 02-2672 Filed 2-4-02; 8:45 am]

BILLING CODE 6325-38-P